DEPARTMENT OF EDUCATION

Special Education and Rehabilitative Services

AGENCY: Office of Special Education Programs, Office of Special Education and Rehabilitative Services, Department of Education.

ACTION: Notice of extension of project period and waiver.

SUMMARY: The Secretary waives the requirements in the Education Department General Administrative Regulations (EDGAR), at 34 CFR 75.250 and 75.261(a), respectively, that generally prohibit project periods exceeding 5 years and project extensions involving the obligation of additional Federal funds to enable the Technical Assistance ALLIANCE for Parent Centers to receive funding from April 1, 2003 until September 30, 2003.

DATES: This notice is effective April 1, 2003.

FOR FURTHER INFORMATION CONTACT: Donna Fluke, Department of Education, 400 Maryland Avenue, SW., room 3527, Switzer Building, Washington, DC 20202-2641. Telephone: (202) 205-9161.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

SUPPLEMENTARY INFORMATION: On January 30, 2003, we published a notice in the Federal Register (68 FR 4768-4769) proposing an extension of project period and waiver in order to—

(1) Give the current grantee early notice of the possibility that additional months of funding may be available through continuation awards; and

(2) Request comments on the proposed extension and waiver.

There are no differences between the notice of proposed extension and waiver and this notice of final extension and waiver.

Public Comment

In the notice of proposed extension and waiver, we invited comments. One party submitted comments in agreement with the proposal to extend the grant period of the current grantee. We did not receive any comments opposing the proposed extension and waiver. Generally, we do not address technical and other minor changes, as well as suggested changes the law does not authorize us to make. Moreover, we do not address comments that do not express views on the substance of the proposed notice.

Waiver of Delayed Effective Date

The Administrative Procedure Act requires that a substantive rule shall be published at least 30 days before its effective date, except as otherwise provided for good cause (20 U.S.C. 553(d)(3)). During the 30-day public comment period on this notice, no substantive comments or objections were received on the proposed extension and waiver, and no substantive changes have been made. For this reason, and in order to make a timely continuation grant to the entity affected, the Secretary has determined that a delayed effective date is not required.

Background

On July 29, 2002, we published in the Federal Register (67 FR 49014-49015) a notice of extension of project period and waiver. In this notice we announced that the Secretary intends to redesign the technical assistance component of the Training and Information for Parents of Children with Disabilities program and provide funding in fiscal year 2003. The notice of extension of project period and waiver was issued to enable the current technical assistance provider, the Technical Assistance ALLIANCE for Parent Centers Project to receive funding from October 1, 2002 until March 31, 2003. The grant for the ALLIANCE expired, after a 5-year project period, on September 30, 2002.

Technical assistance is provided on an ongoing basis to parent centers, and it would be contrary to the public interest to have any service lapses for the parent centers being served by the current grantee.

Reasons

We have determined that an additional period of time is needed for redesigning the technical assistance component. To avoid any lapse in service for the intended beneficiaries before the redesigned technical assistance component can be fully implemented, the Secretary will fund this project until September 30, 2003. The Secretary waives the requirements in 34 CFR 75.250 and 75.261(c)(2), which prohibit project periods exceeding 5 years and period extensions that involve the obligation of additional Federal funds. This waiver gives the affected grantee notice of the availability of an additional six months of funding.

Regulatory Flexibility Act Certification

The Secretary certifies that the extension of project period and waiver will not have a significant economic impact on a substantial number of small entities. The only small entity that would be affected is the PACER Center, Inc., which operates the Technical Assistance ALLIANCE for Parent Centers project.

Paperwork Reduction Act of 1995

This extension and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Electronic Access to This Document

You may view this document, as well as all other Department of Education documents published in the Federal Register, in text or Adobe Portable Document Format (PDF) on the Internet at following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

(Catalog of Federal Domestic Assistance Number 84.328, Training and Information for Parents of Children with Disabilities)
Dated: April 29, 2003.
Robert H. Pasternack,
Assistant Secretary for Special Education and Rehabilitative Services.

[FR Doc. 03-10886 Filed 5-1-03; 8:45 am]

BILLING CODE 4000-01-P